ENVIRONMENTAL PROTECTION AGENCY

[EPA-HQ-OPP-2021-0316; FRL-8734-01-OCSPP]

Agency Information Collection Activities; Proposed Renewal of an Existing Collection and Request for Comment; Agricultural Worker Protection Standard Training, Notification and Recordkeeping

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Agricultural Worker Protection Standard Training, Notification, and Recordkeeping” and identified by EPA ICR No. 2491.05 and OMB Control No. 2070-0190, represents the renewal of an existing ICR that is scheduled to expire on April 30, 2022. Before submitting the ICR to OMB for review and approval under the PRA, EPA is soliciting comments on specific aspects of the information collection that is summarized in this document. The ICR and accompanying material are available in the docket for public review and comment.

DATES: Comments must be received on or before October 4, 2021.

ADDRESSES: Submit your comments, identified by docket identification (ID) number EPA-HQ-OPP-2021-0316, online through the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Please note that due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT: Carolyn Siu, Mission Support Division (7101), Office of Pesticide Programs, Environmental Protection Agency, 1200 Pennsylvania Ave. NW, Washington, DC 20460-0001; telephone number: (703) 34-0159; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Agricultural Worker Protection Standard Training, Notification, and Recordkeeping.

ICR number: EPA ICR No. 2491.05.

OMB control number: OMB Control No. 2070-0190.

ICR status: This ICR is currently scheduled to expire on April 30, 2022. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This Information Collection Request (ICR) estimates the recordkeeping and third-party response burden of paperwork activities that covers the information collection requirements contained in the Worker Protection Standard (WPS) regulations at 40 CFR part 170. The requirements in 40 CFR part 170 were established to protect agricultural workers and pesticide handlers from the hazards of pesticides used in the production of agricultural plants on agricultural establishments. The paperwork activities include respondent activities associated with training and notification of pesticide-related information for workers who enter pesticide-treated areas after pesticide application to perform crop-related tasks, as well as for handlers who mix, load, and apply pesticides. Agricultural employers and commercial pesticide handling establishments (CPHEs) are responsible for providing required training, notifications and information to their employees to ensure worker and handler safety.

In 2015 (80 FR 67495, November 2, 2015 (FRL-9931-81), EPA revised the requirements associated with training for workers and handlers, improved posting of pesticide-treated areas, required additional information for workers before they enter a pesticide-treated area while a restricted entry interval (REI) is in effect, access to more general and application-specific information about pesticides used on the establishment, and revised recordkeeping of training to improve enforceability and compliance.

Burden statement: The annual public reporting and recordkeeping burden for this collection of information is estimated to average 6 minutes per response. Burden is defined in 5 CFR 1320.3(b).

The ICR, which is available in the docket along with other related materials, provides a detailed explanation of the collection activities and the burden estimate that is only briefly summarized here:

Respondents/Affected Entities: Respondents affected by the collection activities under this ICR are agricultural employers on agricultural establishments, including employers in farms as well as in nursery, forestry, and greenhouse establishments.

Respondent's obligation to respond: Mandatory under 40 CFR 170.

Estimated total number of potential respondents: Approximately 985,000 agricultural establishments and approximately 1,995,000 agricultural workers/handlers.

Frequency of response: Annually or on occasion, depending on the activity.

Estimated total average number of responses for each respondent: Varies.

Estimated total annual burden hours: 10,449,889 hours.

Estimated total annual costs: $ 486,621,459. This includes an estimated burden cost of $ 0 for capital investment or maintenance and operational costs.

III. Are there changes in the estimates from the last approval?

There is no change in the number of hours requested and those identified in the ICR currently approved by OMB. There is an estimated increase of 3,220 respondents, which is the result of a correction to the Agency's previously reported bottom-line annual estimates. Although the full burden analysis for the currently approved ICR properly accounted for burden imposed on these respondents, these respondents were inadvertently omitted from the total number of respondents reported to OMB. This change is an adjustment.

In addition, this ICR reflects a change in format. OMB has requested that EPA move towards using the 18-question format for ICR Supporting Statements used by other federal agencies and departments and is based on the submission instructions established by OMB in 1995, replacing the alternate format developed by EPA and OMB prior to 1995. The Agency does not believe that this change in format resulted in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: July 27, 2021.
Michal Freedhoff,
Assistant Administrator, Office of Chemical Safety and Pollution Prevention.

[FR Doc. 2021-16493 Filed 8-2-21; 8:45 am]

BILLING CODE 6560-50-P